DEPARTMENT OF LABOR

Employment and Training Administration

[TA-W-83,070]

Harrison Medical Center, a Subsidiary of Franciscan Health System Bremerton, Washington; Notice of Negative Determination Regarding Application for Reconsideration

By application dated November 14, 2013, the Washington State Labor Council requested administrative reconsideration of the Department of Labor's negative determination regarding eligibility to apply for Trade Adjustment Assistance (TAA), applicable to workers and former workers of Harrison Medical Center, a subsidiary of Franciscan Health System, Bremerton, Washington (subject firm). On November 12, 2013 the Department issued a negative determination applicable to workers and former workers of the subject firm. The Department's Notice of determination will soon be published in the Federal Register. The subject firm supplies acute care hospital physician office services.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination applicable to workers and former workers of the subject firm was based on the Department's findings that the subject firm did not import services like or directly competitive with the services supplied by the workers, and a shift in the supply of such services to a foreign country by the workers' firm or an acquisition of such services from a foreign country by the workers' firm did not occur in the relevant time period. The investigation revealed that the petitioning worker group did not meet the criteria set forth in Section 222(a) and Section 222(e) of the Trade Act of 1974, as amended.

In the request for reconsideration, the petitioner did not supply facts not previously considered and did not provide additional documentation indicating that there was either (1) a mistake in the determination of facts not previously considered or (2) a misinterpretation of facts or of the law justifying reconsideration of the initial determination.

The request for reconsideration alleges that the subject firm entered into a contract with M Modal that may have allowed the outsourcing of services, and requested that the Department confirm that no such outsourcing occurred.

Based on these findings, the Department determines that 29 CFR 90.18(c) has not been met.

In addition, a careful review of the administrative record reveals that the Department did confirm with both the subject firm and M Modal that no such shift had occurred.

Conclusion

After careful review of the application and investigative findings, I conclude that there has been no error or misinterpretation of the law or of the facts which would justify reconsideration of the Department of Labor's prior decision. Accordingly, the application is denied.

Signed in Washington, DC, this 27th day of November, 2013.
Del Min Amy Chen,
Certifying Officer, Office of Trade Adjustment Assistance.

[FR Doc. 2013-29360 Filed 12-9-13; 8:45 am]

BILLING CODE 4510-FN-P